DEPARTMENT OF COMMERCE

Membership of the Office of the Secretary Performance Review Board

AGENCY: Department of Commerce.

ACTION: Notice of Membership on the Office of the Secretary Performance Review Board.

SUMMARY: In accordance with 5 U.S.C. 4314(c)(4), Department of Commerce (DOC) announces the appointment of persons to serve as members of the Office of the Secretary (OS) Performance Review Board (PRB). The OS PRB is responsible for reviewing performance Ratings, pay adjustments and bonuses of Senior Executive Service (SES) members. The term of the new members of the OS PRB will expire December 31, 2010.

DATES: Effective Date: The effective date of service of appointees to the Office of the Secretary Performance Review Board is upon publication of this notice.

FOR FURTHER INFORMATION CONTACT: Denise A. Yaag, Director, Office of Executive Resources, Office of Human Resources Management, Office of the Director, 14th and Constitution Avenue, NW., Washington, DC 20230, (202) 482-3600.

SUPPLEMENTARY INFORMATION: The names, position titles, and type of appointment of the members of the OS/PRB are set forth below by organization:

Department of Commerce

Office of the Secretary

2008-2010

Performance Review Board Membership

Office of the Secretary

Alicemary O. Leach, Director, Executive Secretariat. Earl B. Neal, Director, Office of Information Technology, Security, Infrastructure, and Technology.

Office of Assistant Secretary for Administration

Fred Fanning, Director for Administrative Services. Suzan J. Aramaki, Director, Office of Civil Rights.

National Institute of Standards and Technology

W. Todd Grams, Chief Financial Officer for NIST.

National Oceanic and Atmospheric Administration

Daniel W. Stockton, Program Executive Officer, National Polar-Orbiting Operational Environmental Satellite System.

Office of the General Counsel

Michael A. Levitt, Assistant General Counsel for Legislation and Regulation. Joan Maginnis, Assistant General Counsel for Finance and Litigation (Alternate).

Dated: September 24, 2008.
Denise A. Yaag,
Director, Office of Executive Resources.

[FR Doc. E8-23281 Filed 10-2-08; 8:45 am]

BILLING CODE 3510-BS-M